DEPARTMENT OF ENERGY

Federal Energy Regulatory Commission

Combined Notice of Filings #1

January 17, 2007.

Take notice that the Commission received the following electric rate filings:

Docket Numbers: ER05-1420-001.

Applicants: Lehman Brothers Commodity Services Inc.

Description: Lehman Brothers Commodity Services Inc. submits a Notice of Change in Status.

Filed Date: 01/16/2007.

Accession Number: 20070116-5163.

Comment Date: 5 p.m. Eastern Time on Tuesday, February 06, 2007.

Docket Numbers: ER07-199-001.

Applicants: PJM Interconnection, L.L.C.

Description: PJM Interconnection, LLC submits a corrected version of the Wholesale Market Participation Agreement filed on 11/13/06.

Filed Date: 01/09/2007.

Accession Number: 20070116-0158.

Comment Date: 5 p.m. Eastern Time on Tuesday, January 30, 2007.

Docket Numbers: ER07-426-000.

Applicants: Covanta Delaware Valley, L.P.

Description: Covanta Delaware Valley, LP submits First Revised Sheet 1 et al. to FERC Electric Tariff, Original Volume 2, to be effective 1/13/07.

Filed Date: 01/12/2007.

Accession Number: 20070116-0064.

Comment Date: 5 p.m. Eastern Time on Friday, February 02, 2007.

Docket Numbers: ER07-427-000.

Applicants: Green Mountain Power Corporation.

Description: Green Mountain Power Co submits a notice of cancellation of Amended Transmission Contract with the Village of Hardwick, VT etc.

Filed Date: 01/12/2007.

Accession Number: 20070116-0063.

Comment Date: 5 p.m. Eastern Time on Friday, February 02, 2007.

Docket Numbers: ER07-428-000.

Applicants: Pinnacle West Marketing & Trading Co., LLC.

Description: Pinnacle West Marketing & Trading Co, LLC submits a notice of succession and request for expedited action.

Filed Date: 01/12/2007.

Accession Number: 20070116-0061.

Comment Date: 5 p.m. Eastern Time on Friday, February 02, 2007.

Docket Numbers: ER07-429-000.

Applicants: New York State Reliability Council, L.L.C.

Description: New York State Reliability Council, LLC submits a revised Installed Capacity Requirement for the New York Control Area for the capability year of 5/1/07-8/30/08.

Filed Date: 01/12/2007.

Accession Number: 20070116-0062.

Comment Date: 5 p.m. Eastern Time on Friday, January 26, 2007.

Docket Numbers: ER07-430-000.

Applicants: Dunhill Power, L.P.

Description: Dunhill Power LP submits a petition for acceptance of its initial Tariff, Original Volume 1, waivers and blanket authority.

Filed Date: 01/16/2007.

Accession Number: 20070117-0222.

Comment Date: 5 p.m. Eastern Time on Tuesday, February 06, 2007.

Docket Numbers: ER07-431-000.

Applicants: Southern Company Services, Inc.

Description: Southern Company Services, Inc as agent for Alabama Power Co et al, submits 6 rollover Service Agreements for Network Integration Transmission Service, FERC Electric Tariff, Fourth Revised Volume 5.

Filed Date: 01/16/2007.

Accession Number: 20070117-0223.

Comment Date: 5 p.m. Eastern Time on Tuesday, February 06, 2007.

Docket Numbers: ER07-432-000.

Applicants: New York Independent System Operator, Inc.

Description: New York Independent System Operator Inc submits proposed revisions to its OATT, to provide specific language re the recovery of the operating cost from its Load Serving Entities for NERC.

Filed Date: 01/16/2007.

Accession Number: 20070117-0224.

Comment Date: 5 p.m. Eastern Time on Tuesday, January 30, 2007.

Any person desiring to intervene or to protest in any of the above proceedings must file in accordance with Rules 211 and 214 of the Commission's Rules of Practice and Procedure (18 CFR 385.211 and 385.214) on or before 5 p.m. Eastern time on the specified Comment Date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-1129 Filed 1-25-07; 8:45 am]

BILLING CODE 6717-01-P